DEPARTMENT OF TRANSPORTATION

Federal Aviation Administration

[Docket No. FAA-2017-1197; Notice of Availability Docket No. 17-AEA-25]

Notice of Availability of Categorical Exclusion and Record of Decision (CATEX/ROD) for LGA RNAV (GPS) Runway 13 Procedure

AGENCY: Federal Aviation Administration, (FAA), DOT.

ACTION: Notice of availability.

SUMMARY: The FAA, Eastern Service Area is issuing this notice to advise the public of the availability of the Categorical Exclusion/Record of Decision (CATEX/ROD) for the LaGuardia Airport (LGA) RNAV (GPS) Runway 13 (RWY 13) procedure. The FAA reviewed the action and determined it to be categorically excluded from further environmental documentation.

FOR FURTHER INFORMATION CONTACT: Mr. Ryan W. Almasy, Federal Aviation Administration, Operations Support Group, Eastern Service Center, 1701 Columbia Avenue, College Park, Georgia 30337, (404) 305-5601 or http://www.faa.gov/air_traffic/environmental_issues/.

SUPPLEMENTARY INFORMATION: The LGA RNAV (GPS) RWY 13 procedure provides a de-conflicted approach procedure when weather or winds require LGA to land RWY 13. Without this procedure, when the weather minimums fall below 1,500 feet, and 3-mile visibility and use of an ILS is required, Newark (EWR), Teterboro (TEB), and LGA cannot operate at the same time. Traffic at one of the three airports must be stopped to permit the other two airports to operate. The FAA is proposing to use the RNAV procedure for approximately 1,500 operations annually (0.8 percent of all LGA landings) to de-conflict the New York metro airspace. The FAA reviewed the action and determined it to be categorically excluded from further environmental documentation according to FAA Order 1050.1F, Environmental Impacts: Policies and Procedures. The applicable categorical exclusion is section 5-6.5(i.).

Issued in College Park, Georgia, on December 15, 2017.
Ryan W. Almasy,
Manager, Operations Support Group, Eastern Service Center, Air Traffic Organization.

[FR Doc. 2017-27965 Filed 12-27-17; 8:45 am]

BILLING CODE 4910-13-P